DEPARTMENT OF COMMERCE

International Trade Administration

[C-570-991]

Chlorinated Isocyanurates From the People's Republic of China: Preliminary Results of Countervailing Duty Administrative Review, and Preliminary Intent To Rescind Review, in Part; 2014

AGENCY: Enforcement and Compliance, International Trade Administration, Department of Commerce.

SUMMARY: The Department of Commerce (the “Department”) preliminarily determines that countervailable subsidies are being provided to producers and exporters of chlorinated isocyanurates (“chloro isos”) from the People's Republic of China (the “PRC”). Interested parties are invited to comment on this preliminary determination.

DATES: Effective December 13, 2016.

FOR FURTHER INFORMATION CONTACT: Omar Qureshi or Andrew Devine, AD/CVD Operations, Office V, Enforcement and Compliance, International Trade Administration, U.S. Department of Commerce, 1401 Constitution Avenue NW., Washington, DC 20230; telephone 202.482.5307 or 202.482.0238, respectively.

SUPPLEMENTARY INFORMATION:

Scope of the Order

The products covered by the order are chloro isos, which are derivatives are cyanuric acid, described as chlorinated s-triazine triones.¹ Chloro isos are currently classifiable under subheadings 2933.69.6015, 2933.69.6021, 2933.69.6050, 3808.50.4000, 3808.94.5000, and 3808.99.9500 of the Harmonized Tariff Schedule of the United States (“HTSUS”). The HTSUS subheadings are provided for convenience and customs purposes; the written product description of the scope of the order is dispositive.

¹ For a complete description of the Scope of the Order, see Countervailing Duty Administrative Review of Chlorinated Isocyanurates from the People's Republic of China: Decision Memorandum for the Preliminary Results, published concurrently with this notice (“Preliminary Decision Memorandum”).

Methodology

On November 13, 2014, the Department published in the Federal Register a countervailing duty (“CVD”) order on chloro isos from the PRC.² The Department is conducting this administrative review in accordance with section 751(a)(1)(A) of the Tariff Act of 1930, as amended (“the Act”). For each of the subsidy programs found countervailable, we preliminarily find that there is a subsidy (i.e., a financial contribution from an authority that gives rise to a benefit to the recipient), and that the subsidy is specific.³ In making this preliminary determination, the Department relied, in part, on facts otherwise available, with the application of adverse inferences.⁴ For further information, see “Use of Facts Otherwise Available and Adverse Inferences” in the accompanying Preliminary Decision Memorandum. A list of topics discussed in the Preliminary Decision Memorandum is provided at Appendix I to this notice.

² Id.

³ See Sections 771(5)(B) and (D) of the Act regarding financial contribution; section 771(5)(E) of the Act regarding benefit; and section 771(5A) of the Act regarding specificity.

⁴ See Section 776(a) of the Act.

The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn. The signed Preliminary Decision Memorandum and the electronic version of the Preliminary Decision Memorandum are identical in content.

Intent To Rescind Administrative Review, In Part

On May 16, 2016, the Department received a timely response indicating that Juancheng Kangtai Chemical Co., Ltd. (“Kangtai”) made no shipments to the United States during the POR, as part of its response to the Department's initial CVD questionnaire. Because there is no evidence on the record to the contrary, pursuant to 19 CFR 351.213(d)(3), we preliminarily intend to rescind the review with respect to Kangtai. A final decision regarding whether to rescind the review of this company will be issued with the final results of review.

Preliminary Results of Review

In accordance with section 703(d)(1)(A)(i) of the Act, we calculated an estimated individual countervailable subsidy rate for each producer/exporter of the subject merchandise individually investigated. We preliminarily determine these rates to be:

Company | Subsidy rate
Hebei Jiheng Chemical Co., Ltd. (“Hebei Jiheng”) | 20.94
Heze Huayi Chemical Co., Ltd. (“Huayi”) | 1.04

Disclosure and Public Comment

The Department intends to disclose to parties to this proceeding the calculations performed in reaching the preliminary results within five days of the publication of these preliminary results.⁵ The Department also intends to issue a post-preliminary analysis memo on the Export Buyer's Credit program, as discussed in the Preliminary Decision Memorandum. Interested parties may submit written comments (case briefs) ⁶ within 30 days of the issuance of the post-preliminary results and rebuttal comments (rebuttal briefs) within five days after the time limit for filing case briefs.⁷ Rebuttal briefs must be limited to issues raised in the case briefs.⁸ Parties who submit case or rebuttal briefs are requested to submit with the argument: (1) A statement of the issue; (2) a brief summary of the argument; and (3) a table of authorities.⁹

⁵ See 19 CFR 351.224(b).

⁶ See generally 19 CFR 351.303 (for general filing requirements).

⁷ See 19 CFR 351.309(c)(1)(ii) and 351.309(d)(1).

⁸ See 19 CFR 351.309(d)(2).

⁹ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹⁰ Requests should contain the party's name, address, and telephone number, the number of participants, and a list of the issues to be discussed. If a request for a hearing is made, we will inform parties of the scheduled date for the hearing which will be held at the U.S. Department of Commerce, 1401 Constitution Avenue NW., Washington, DC 20230, at a time and location to be determined.¹¹ Parties should confirm by telephone the date, time, and location of the hearing. Issues addressed at the hearing will be limited to those raised in the briefs.¹² All briefs and hearing requests must be filed electronically and received successfully in their entirety through ACCESS by 5:00 p.m. Eastern Time on the due date.

¹⁰ See 19 CFR 351.310(c).

¹¹ See 19 CFR 351.310.

¹² See 19 CFR 351.310(c).

Unless the deadline is extended pursuant to section 751(a)(3)(A) of the Act, the Department intends to issue the final results of this administrative review, including the results of our analysis of the issues raised by the parties in their comments, within 120 days after publication of these preliminary results.

Assessment Rates and Cash Deposit Requirement

Upon issuance of the final results, the Department shall determine, and U.S. Customs and Border Protection (“CBP”) shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most recent company-specific or all-others rate applicable to the company, as appropriate. These cash deposit requirements, when imposed, shall remain in effect until further notice.

These preliminary results of review are issued and published in accordance with sections 751(a)(1) and 777(i)(1) of the Act and 19 CFR 351.213 and 351.221(b)(4).

Dated: December 5, 2016.
Paul Piquado,
Assistant Secretary for Enforcement and Compliance.

Appendix

List of Topics Discussed in the Preliminary Decision Memorandum

I. Summary

II. Background

III. Intent to Partially Rescind Review

IV. Scope of the Order

V. Application of CVD Law to Imports From the PRC

VI. Subsidies Valuation

VII. Benchmarks

VIII. Use of Facts Otherwise Available and Adverse Inferences

IX. Analysis of Programs

X. Disclosure and Public Comment

XI. Conclusion

[FR Doc. 2016-29844 Filed 12-12-16; 8:45 am]

BILLING CODE 3510-DS-P